DEPARTMENT OF VETERANS AFFAIRS

[OMB Control No. 2900-0521]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before October 15, 2004.

FOR FURTHER INFORMATION CONTACT: Denise McLamb, Records Management Service (005E3), Department of Veterans Affairs, 810 Vermont Avenue, NW., or e-mail denise.mclamb@mail.va.gov. Please refer to “OMB Control No. 2900-0521.” Send comments and recommendations concerning any aspect of the information collection to VA's OMB Desk Officer, OMB Human Resources and Housing Branch, New Executive Office Building, Room 10235, Washington, DC 20503 (202) 395-7316. Please refer to “OMB Control No. 2900-0521” in any correspondence.

SUPPLEMENTARY INFORMATION:

Titles:

a. Credit Underwriting Standards and Procedures for Processing VA Guaranteed Loans.

b. Report and Certification of Loan Disbursement, VA Form 26-1820.

c. Request for Verification of Employment, VA Form 26-8497.

d. Request for Verification of Deposit, VA Form 26-8497a.

OMB Control Number: 2900-0521.

Type of Review: Extension of a currently approved collection.

Abstract:

a. Credit Underwriting Standards and Procedures for Processing VA Guaranteed Loans—VA set forth, in regulatory form, standards to be used by lenders in underwriting VA-guaranteed loans and to obtain credit information. Lenders must collect certain specific information concerning the veteran and the veteran's credit history (and spouse or other co-borrower, as applicable), in order to properly underwrite the veteran's loan. A loan may not be guaranteed unless the veteran is a satisfactory credit risk. VA requires the lender to provide the Department with the credit information to assure itself that applications for VA-guaranteed loans are underwritten in a reasonable and prudent manner.

b. VA Form 26-1820 is completed by lenders closing VA guaranteed and insured loans under the automatic or prior approval procedures. Lenders are required to submit with the form, a copy of the loan application (showing income, assets, and obligations) which the lender requires the borrower to execute when applying for the loan; original employment and income verifications obtained from the borrower's place of employment; original verification of assets; and original credit report.

c. VA Form 26-8497 is used by lenders to verify a loan applicant's income and employment information when making guaranteed and insured loans. VA, however, does not require the exclusive use of this form for verification purposes; any comprehensible form or independent verification would be acceptable, provided all information presently shown on VA Form 26-8497 is provided.

d. VA Form 26-8497a is primarily used by lenders making guaranteed and insured loans to verify the applicant's deposits in banks and other savings institutions.

An agency may not conduct or sponsor, and a person is not required to respond to a collection of information unless it displays a currently valid OMB control number. The Federal Register Notice with a 60-day comment period soliciting comments on this collection of information was published on June 25, 2004, at pages 35713-35714.

Affected Public: Business or other for profit and Individuals or households.

Estimated Annual Burden: 162,500 hour.

a. Report and Certification of Loan Disbursement, VA Form 26-1820—87,500 hours.

b. Request for Verification of Employment, VA Form 26-8497—25,000 hours.

c. Request for Verification of Deposit, VA Form 26-8497a—12,500 hours.

Estimated Average Burden Per Respondent:

a. Report and Certification of Loan Disbursement, VA Form 26-1820—15 minutes.

b. Request for Verification of Employment, VA Form 26-8497—10 minutes.

c. Request for Verification of Deposit, VA Form 26-8497a—5 minutes.

Frequency of Response: On occasion.

Estimated Number of Respondents: 650,000.

a. Report and Certification of Loan Disbursement, VA Form 26-1820—350,000.

b. Request for Verification of Employment, VA Form 26-8497—150,000.

c. Request for Verification of Deposit, VA Form 26-8497a—150,000.

Dated: September 1, 2004.
By direction of the Secretary.
Loise Russell,
Director, Records Management Service.

[FR Doc. 04-20746 Filed 9-14-04; 8:45 am]

BILLING CODE 8320-01-P